DEPARTMENT OF COMMERCE

National Telecommunications and Information Administration

Docket No. 0812021556-81558-01

Public Telecommunications Facilities Program: Closing Date

AGENCY: National Telecommunications and Information Administration (NTIA), U.S. Department of Commerce

ACTION: Notice of Amended Closing Date for Solicitation of Applications; Catalog of Federal Domestic Assistance

SUMMARY: The National Telecommunications and Information Administration (NTIA) announces that the new closing date for certain digital television Distributed Transmission System (DTS) projects is Monday, May 18, 2009. This new Closing Date for certain DTS projects is designed to accommodate a new policy issued by the Federal Communications Commission after NTIA published the original Closing Date notice in the Federal Register. The Closing Date for receipt of all other Public Telecommunications Facilities Program (PTFP) applications remains Thursday, December 18, 2008.

DATES: Applications for certain digital television DTS projects must be received prior to 5 p.m. Eastern Daylight Time (Closing Time), Monday, May 18, 2009 (DTS Closing Date). Applications submitted by facsimile will not be accepted. If an application is received after the DTS Closing Date due to (1) carrier error, when the carrier accepted the package with a guarantee for delivery by the DTS Closing Date and Closing Time, (2) significant weather delays or natural disasters, or (3) delays due to national security issues, NTIA will, upon receipt of proper documentation, consider the application as having been received by the deadline. NTIA will not accept applications posted on the DTS Closing Date or later and received after this deadline.

ADDRESSES: To obtain a printed application package, submit completed applications, or send any other correspondence, write to PTFP at the following address (please note the new room number): NTIA/PTFP, Room H-4812, U.S. Department of Commerce, 1401 Constitution Avenue, N.W., Washington, DC 20230. Application materials may be obtained electronically via the Internet at http://www.ntia.doc.gov/ptfp or http://www.grants.gov.

FOR FURTHER INFORMATION CONTACT: William Cooperman, Director, Public Broadcasting Division, telephone: (202) 482-5802; fax: (202) 482-2156. Information about the PTFP can also be obtained electronically via the Internet at http://www.ntia.doc.gov/ptfp.

SUPPLEMENTARY INFORMATION: On October 20, 2008, NTIA published a Notice of Closing Date for Solicitation of Applications for the FY 2009 PTFP grant round. The Notice established Thursday, December 18, 2008 as the Closing Date.¹

¹ Public Telecommunications Facilities Program: Closing Date, 73 Fed. Reg. 62,258 (NTIA Oct. 20, 2008)(PTFP Closing Date Notice).

On November 3, 2008, the Federal Communications Commission (FCC) adopted rules for the use of Distributed Transmission System (DTS) Technologies in the digital television service.² In paragraph 28 of the Report and Order, the FCC adopted an immediate waiver policy to use DTS to continue to provide over-the-air service to existing analog viewers after the digital transition even before its new DTS rules and forms take effect.³ Under the timeline adopted by the FCC in the DTS Report and Order, licensees must submit DTS applications using this waiver policy to the FCC no later than August 18, 2009 (six months after the February 17, 2009 deadline for shut-down of full-power analog television service), and applicants must commit to build the DTS facility as quickly as possible.⁴ Consistent with PTFP's purposes, NTIA is extending the Closing Date for DTS applications so stations may apply for the financial assistance necessary to build DTS facilities as allowed by the new FCC rules and waiver policy.⁵

² Digital Television Distributed Transmission System Technologies, MB Docket No. 05-312, Report and Order, 2008 FCC LEXIS 7698, FCC 08-256 (2008)(DTS Report and Order).

³ Id. at ¶28.

⁴ Id.

⁵ See 47 U.S.C. § 390.

For DTS projects that require an FCC waiver under the aforementioned waiver policy, NTIA will accept applications for DTS projects until May 18, 2009 (DTS Closing Date). Such applications will be placed in Subpriority A. While applicants may file requests for FCC authorizations with the FCC after the DTS Closing Date, applicants are reminded that no grant will be awarded until confirmation has been received from the FCC that any necessary authorization will be issued. As noted in the Federal Funding Opportunity Notice of October 20, 2008, “[t]ransmission equipment required by public television stations to complete their digital broadcast facilities will be considered in Broadcast Other, Subpriority A” and that facilities “should replicate the station's comparable analog Grade B coverage.”⁶

⁶ Announcement of Federal Funding Opportunity, National Telecommunications and Information Administration, FY 2009, U.S. Department of Commerce (Oct. 20, 2008) available at http://www.ntia.doc.gov/otiahome/ptfp/ attachments/FFO_Notice_09.html.

Applications for DTS projects will utilize the same forms, and undergo the same review and evaluation process contained in the PTFP Closing Date Notice. The Closing Date for receipt of all other PTFP applications, including applications for those DTS projects that do not require a FCC waiver as discussed above, remains Thursday, December 18, 2008.⁷

⁷ See PTFP Closing Date Notice, supra note 1.

Dated: December 4, 2008.
Dr. Bernadette McGuire-Rivera,
Associate Administrator, Office of Telecommunications and Information Applications.

[FR Doc. E8-29096 Filed 12-8-08; 8:45 am]

BILLING CODE 3510-60-S